DEPARTMENT OF JUSTICE

Notice of Lodging of Settlement Agreement Under the Comprehensive Environmental Response, Compensation, and Liability Act and the Resource Conservation and Recovery Act

Notice is hereby given that on October 20, 2010, a proposed Consent Decree and Settlement Agreement in the bankruptcy matter, Motors Liquidation Corp, et al., f/k/a General Motors Corp., et al., Jointly Administered Case No. 09-50026 (REG), was lodged with the United States Bankruptcy Court for the Southern District of New York. The Parties to the Settlement Agreement are debtors Motors Liquidation Corporation, formerly known as General Motors Corporation, Remediation and Liability Management Company, Inc., and Environmental Corporate Remediation Company, Inc. (collectively, “Old GM”); the United States of America; the States of Delaware, Illinois, Indiana, Kansas, Michigan, Missouri, New Jersey, New York, Ohio, Virginia and Wisconsin; the Louisiana Department of Environmental Quality; the Massachusetts Department of Environmental Protection; the Department of Environmental Protection of the Commonwealth of Pennsylvania; the Saint Regis Mohawk Tribe; and EPLET, LLC, not individually but solely in its representative capacity as Administrative Trustee of the Environmental Response Trust. The Settlement Agreement resolves claims and causes of action of the Environmental Protection Agency (“EPA”) against Old GM under the Comprehensive Environmental Response, Compensation, and Liability Act (“CERCLA”), 42 U.S.C. 9601-9675 and the Resource Conservation and Recovery Act (“RCRA”), 42 U.S.C. 6901-6992k, with respect to the following sites:

1. The GMNA Car—Wilmington Site in Delaware;

2. The GMPT—Danville Landfill Site in Illinois;

3. The Former GM Delco Plant Site in Indiana;

4. Various Bedford Town Sites (60 Properties) Indiana;

5. The Manual Transmission of Muncie Site in Indiana;

6. The Metal Fab—Indianapolis in Indiana;

7. The Delphi I—Anderson/Monroe Site in Indiana;

8. The Allison Gas Turbines Site in Indiana;

9. The Venture 2000 Property Site in Indiana;

10. The 1-Acre Fire Suppression Lot Site in Indiana;

11. The Fairfax I Plant Site in Kansas;

12. The Fairfax Parking Lot Site in Kansas;

13. The GMVM—Shreveport Assembly (exclude Stamping) Site in Louisiana;

14. The MCD—Framingham Landfill Site in Massachusetts;

15. The GMPT—Willow Run Site in Michigan;

16. The GMNA—Buick City Site in Michigan;

17. The Pontiac North Site in Michigan;

18. The GMPT Saginaw Malleable Site in Michigan;

19. The Saginaw Nodular Iron (PIMS297) Site in Michigan;

20. The GMNA Car (Fisher Body)—Lansing Site in Michigan;

21. The Midsize & Luxury Car—Willow Run Site in Michigan;

22. The Delphi C—Livonia Groundwater Site in Michigan;

23. The GMNA Car—Lansing Site in Michigan;

24. The GMNA Car—Lansing Site in Michigan;

25. The Delphi I—Coldwater Rd. (Landfill) Site in Michigan;

26. The Stamping—Grand Rapids Site in Michigan;

27. The GMPT Bay City Site in Michigan;

28. The Flint West—Flint River Site in Michigan;

29. The Vacant Land South of Van Born (68 acres) Site in Michigan;

30. The GMPT—Livonia Site in Michigan;

31. The Greenpoint Landfill Site in Michigan;

32. The Hemphill Lot Site in Michigan;

33. The Peregrine—Coldwater Rd. (Plant) Site in Michigan;

34. The Employee Development Center Site in Michigan;

35. The Chevrolet-Pontiac-Canada Pontiac Fiero Assembly Plant Site in Michigan;

36. The Davison Road Land Site in Michigan;

37. The Dort Highway Land Site in Michigan;

38. The -1 PCC—Validation Site in Michigan;

39. The Saginaw PLt 2 Landfill Site in Michigan;

40. The Pontiac Centerpoint Campus—West Site in Michigan;

41. The Powertrain—Romulus Engineering Center Site in Michigan;

42. The Former Howard W/H—Vacant Land Site in Michigan;

43. The Textile Road Land Site in Michigan;

44. The ACC—Penske Site in Michigan;

45. The Linden Road Landfill Site in Michigan;

46. The Windiate Park Lots Site in Michigan;

47. The Lot 8—6241 Cass Avenue at Amsterdam Ave. Site in Michigan;

48. The 6560 Cass Ave/GMNA New Center Complex Site in Michigan;

49. The GLTC land (Atherton Landfill/Die Lot Parking) Site in Michigan;

50. The Vacant Land (76 acres) Site in Michigan;

51. The Delphia C Livonia Coil & Bumper Site in Michigan;

52. The Land along Stanley Road Site in Michigan;

53. The Fiero Site (Powerhouse) Site in Michigan;

54. The Flint Flow-through Warehouse Site in Michigan;

55. The GMPT—Flint North #5/#10/#81 Site in Michigan;

56. The GMVM—Pontiac Assembly Site in Michigan;

57. The Midsize & Luxury Car Clark Street Site in Michigan;

58. The Delta Engine Plant Site in Michigan;

59. The 1831 Grondinwood (residence) Site in Michigan;

60. The 1394 Oak Hollow (residence) Site in Michigan;

61. The Pontiac Centerpoint Campus—Central Site in Michigan;

62. The Pontiac Centerpoint Campus—East Site in Michigan;

63. The Centerpoint Land (no Etkin ground lease) Site in Michigan;

64. The Centerpoint Land (Etkin ground lease) Site in Michigan;

65. The 652 Meadow Drive Site in Michigan;

66. The 642 Meadow Drive Site in Michigan;

67. The 631 Meadow Drive Site in Michigan;

68. The 607 Meadow Drive Site in Michigan;

69. The Willow Run Engineering Center Site in Michigan;

70. The PCC Validation Southern Parking Lot Site in Michigan;

71. The Former Leed's Assembly Plant—Northern Parcel Site in Michigan;

72. The Former Leed's Assembly Plant—Southern Parcel Site in Michigan;

73. The Hyatt Clark Industries Site in Michigan;

74. The Delphi Interior & Lighting Systems—Trenton Site in Michigan;

75. The General Motors (Central Foundry Division) Superfund Site, a/k/a the Massena Site, in New York;

76. The GM-IFG Syracuse Site in New York;

77. The Ley Creek PCB Dredging Site in New York;

78. The Tonawanda Engine Landfill Site in New York;

79. The Delphi Harrison—Moraine Site in Ohio;

80. The Delphi Interior—Elyria Site in Ohio;

81. The Stamping—Mansfield Site in Ohio;

82. The GMPT—Toledo 103C Landfill Site in Ohio;

83. The GMPT—Parma Complex Site in Ohio;

84. The Lordstown Excess Land Site in Ohio;

85. The Moraine Lagoon Site in Ohio;

86. The Moraine Assembly Site in Ohio;

87. The Metal Fab—Pittsburgh Site in Pennsylvania;

88. The GMPT—Fredericksburg Site in Virginia; and

89. The Janesville Training Center Site in Wisconsin.

Under the Settlement Agreement, Old GM will make a cash payment of $499,434,945 to an Environmental Response Trust established pursuant to an Environmental Response Trust Agreement to clean up these 89 sites. Old GM will also make an additional payment of $142,000,000 and transfer certain personalty and title to 88 real properties owned by Old GM to the environmental response trust to fund administrative expenses.

The Department of Justice will receive, for a period of thirty days from the date of this publication, comments relating to the Consent Decree and Settlement Agreement. Comments should be addressed to the Assistant Attorney General, Environment and Natural Resources Division, and either emailed to pubcomment-ees.enrd@usdoj.gov or mailed to P.O. Box 7611, U.S. Department of Justice, Washington, DC 20044-7611, and should refer to In re Motors Liquidation Corp., et al., D.J. Ref. 90-11-3-09754. Commenters may request an opportunity for a public meeting in the affected area, in accordance with Section 7003(d) of RCRA, 42 U.S.C. 6973(d).

The Consent Decree and Settlement Agreement and the Environmental Response Trust Agreement may be examined at the Office of the United States Attorney, 86 Chambers Street, 3rd Floor, New York, New York 10007, and at the U.S. Environmental Protection Agency, Ariel Rios Building, 1200 Pennsylvania Avenue, NW., Washington, DC 20460. During the public comment period, the Settlement Agreement and the Custodial Trust Agreement may also be examined on the following Department of Justice Web site, http://www.usdoj.gov/enrd/Consent_Decrees.html. Copies of the Consent Decree and Settlement Agreement and the Environmental Response Trust Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $42.75 (with exhibits) or $22.75 (without exhibits) (25 cents per page reproduction cost) payable to the U.S. Treasury or, if by e-mail or fax, please forward a check in that amount to the Consent Decree Library at the stated address.

Maureen Katz,
Assistant Section Chief, Environmental Enforcement Section, Environment and Natural Resources Division.

[FR Doc. 2010-27265 Filed 10-27-10; 8:45 am]

BILLING CODE 4410-15-P